COMMITTEE FOR THE IMPLEMENTATION OF TEXTILE AGREEMENTS

Determination under the Textile and Apparel Commercial Availability Provision of the Dominican Republic-Central America-United States Free Trade Agreement (CAFTA-DR Agreement); Correction

March 26, 2007.

In the notice published in the Federal Register on February 22, 2007 (72 FR 7957), in column 3 on the first line of the table under “Specifications”, please change the number “5515.11.10” to read “5515.11.00”

Philip J. Martello,
Acting Chairman, Committee for the Implementation of Textile Agreements.

[FR Doc. 07-1555 Filed 3-26-07; 4:28 pm]

BILLING CODE 3510-DS-P